DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2009, there were 10 applications approved. This notice also includes information on two applications, approved in February 2009, inadvertently left off the February 2009 notice. Additionally, 24 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Tupelo Airport Authority, Tupelo, Mississippi.

Kevin Application Number: 09-05-C-00-TUP.

Application Type: Impose and use a PFC.

PFC Level: $4.50.

Total PFC Revenue Approved in this Decision: $343,473.

Earliest Charge Effective Date: July 1, 2014.

Estimated Charge Expiration Date: December 1, 2018.

Class of Air Carriers Not Required to Collect PFC'S: None.

Brief Description of Projects Approved for Collection and Use: Extend runway 18/36. Widen and overlay runway 18/36.

Decision Date: February 24, 2009.

For Further Information Contact: Kevin Morgan, Jackson Airports District Office, (601) 664-9891.

Public Agency: City of Charlotte, North Carolina.

Application Number: 09-03-C-00-CLT.

Application Type: Impose and use a PFC.

PFC Level: $3.00.

Total PFC Revenue Approved in this Decision: $80,765,972.

Earliest Charge Effective Date: December 1, 2018.

Estimated Charge Expiration Date: July 1, 2020.

Class of Air Carriers Not Required to Collect PFC'S: Air taxi/commercial operators filing FAA Form 1800-31.

Determination: Approved. Based on information contained in the public agency's application, the FAA has determined that each approved class accounts for less than 1 percent of the total annual enplanements at Charlotte Douglas International Airport.

Brief Description of Projects Approved for Collection and Use:

Storm drain rehabilitation—Coffey Creek.

Terminal complex expansion—master planning.

Checkpoint modifications.

Baggage system modifications.

Roadway signage.

PFC application development.

Brief Description of Project Partially Approved for Collection and Use: Taxiway bridges.

Determination: The cost estimate for the project included a contingency amount which is not PFC eligible.

Decision Date: February 26, 2009.

For Further Information Contact: John Marshall, Atlanta Airports District Office, (404) 305-7153.

Public Agency: City of Brownsville, Texas.

Application Number: 09-05-C-00-BRO.

Application Type: Impose and use a PFC.

PFC Level: $4.50.

Total PFC Revenue Approved in this Decision: $3,055,866.

Earliest Charge Effective Date: June 1,2010.

Estimated Charge Expiration Date: December 1, 2018.

Class of Air Carriers Not Required to Collect PFC'S: None.

Brief Description of Projects Approved for Collection and Use:

Taxiway G reconstruction.

Terminal renovation.

Taxiway D reconstruction.

PFC application and administration fees.

Decision Date: March 5, 2009.

For Further Information Contact: Glenn Boles, Texas Airports Development Office, (817) 222-5685.

Public Agency: Cities of Pullman, Washington and Moscow, Idaho.

Application Number: 09-06-C-00-PUW.

Application Type: Impose and use a PFC.

PFC Level: $4.50.

Total PFC Revenue Approved in this Decision: $255,998.

Earliest Charge Effective Date: September 1, 2010.

Estimated Charge Expiration Date: January 1, 2013.

Class of Air Carriers Not Required to Collect PFC'S: Non-scheduled air taxi/commercial operators filing FAA Form 1800-31.

Determination: Approved. Based on information contained in the public agency's application, the FAA has determined that each approved class accounts for less than 1 percent of the total annual enplanements at Pullman-Moscow Regional Airport.

Brief Description of Projects Approved for Collection and Use:

Acquisition of snow removal equipment.

Snow removal equipment building renovation.

Replacement of windsock.

Acquisition of passenger loading ramp.

Purchase friction meter.

Purchase aircraft rescue and firefighting equipment.

Update storm water pollution prevention plan.

Wetlands delineation.

Rehabilitation/reconstruction of taxiway A and connecting taxilanes.

Directional sign panel replacement.

Access road reconstruction.

Rehabilitation of runway 5/23.

PFC administration costs.

Decision Date: March 9, 2009.

For Further Information Contact: Trang Tran, Seattle Airports District Office, (425) 227-1662.

Public Agency: Airport Authority District No. 1 of Calcasieu Parish, Lake Charles, Louisiana.

Application Number: 09-02-C-00-LCH.

Application Type: Impose and use a PFC.

PFC Level: $4.50.

Total PFC Revenue Approved in this Decision: $420,000.

Earliest Charge Effective Date: October 1, 2009.

Estimated Charge Expiration Date: December 1,2011.

Class of Air Carriers Not Required to Collect PFC'S: None.

Brief Description of Projects Approved for Collection and Use:

Airport access road improvements.

Acquire fingerprinting equipment.

Decision Date: March 12, 2009.

For Further Information Contact: Ilia Quinones, Louisiana/New Mexico Airports Development Office, (817) 222-5646.

Public Agency: Broome County Department of Aviation, Johnson City, New York.

Application Number: 09-12-C-00-BGM.

Application Type: Impose and use a PFC.

PFC Level: $4.50.

Total PFC Revenue Approved in this Decision: $15,421.

Earliest Charge Effective Date: March 1, 2011.

Estimated Charge Expiration Date: April 1, 2011.

Class of Air Carriers Not Required to Collect PFC'S: Non-scheduled/on-demand air carriers filing FAA Form 1800-31.

Determination: Approved. Based on information contained in the public agency's application, the FAA has determined that each approved class accounts for less than 1 percent of the total annual enplanements at Greater Binghamton Airport.

Brief Description of Project Approved for Collection and Use: Taxiways H and K rehabilitation, design and construction.

Brief Description of Projects Approved for Use:

Main apron rehabilitation design.

North and west apron rehabilitation design.

North and west apron rehabilitation construction.

Decision Date: March 13, 2009.

For Further Information Contact: Andrew Brooks, New York Airports District Office, (516) 227-3816.

Public Agency: City of El Paso, Texas.

Application Number: 09-05-C-00-ELP.

Application Type: Impose and use a PFC.

PFC Level: $3.00.

Total PFC Revenue Approved in this Decision: $20,634,000.

Earliest Charge Effective Date: April 1, 2009.

Estimated Charge Expiration Date: June 1, 2012.

Class of Air Carriers Not Required to Collect PFC'S: Part 135 air taxi/commercial operators filing FAA Form 1800-31.

Determination: Approved. Based on information contained in the public agency's application, the FAA has determined that the approved class accounts for less than 1 percent of the total annual enplanements at El Paso International Airport.

Brief Description of Projects Approved for Collection and Use:

Design and reconstruction of taxiway L.

Design and reconstruction of taxiway radius.

Decision Date: March 13, 2009.

For Further Information Contact: Guillermo Villalobos, Texas Airports Development Office, (817) 222-5657.

Public Agency: County of Glynn, Brunswick, Georgia.

Application Number: 09-03-C-00-BQK.

Application Type: Impose and use a PFC.

PFC Level: $4.50.

Total PFC Revenue Approved in this Decision: $860,268.

Earliest Charge Effective Date: May 1, 2009.

Estimated Charge Expiration Date: April 1, 2017.

Class of Air Carriers Not Required to Collect PFC'S: Nonscheduled/on-demand air carriers filing FAA Form 1800-31.

Determination: Approved. Based on information contained in the public agency's application, the FAA has determined that the approved class accounts for less than 1 percent of the total annual enplanements at Brunswick Golden Isles Airport.

Brief Description of Projects Approved for Collection and Use:

Airfield drainage construction.

Airfield drainage design.

Airfield electrical improvements construction.

Airfield electrical improvements design.

Apron ramp joint replacement construction.

Apron ramp joint replacement design.

Aircraft rescue and firefighting truck design/specifications.

Aircraft rescue and firefighting truck purchase.

Runway 7/25 crack sealing and marking.

Runway incursion markings (enhanced center line).

Sweeper vehicle purchase.

Terminal project continued construction.

West general aviation ramp expansion.

West general aviation ramp expansion design.

PFC application preparation.

Decision Date: March 18, 2009.

For Further Information Contact: John Marshall, Atlanta Airports District Office, (404) 305-7153.

Public Agency: City of Waterloo, Iowa.

Application Number: 09-08-C-00-ALO.

Application Type: Impose and use a PFC.

PFC Level: $4.50.

Total PFC Revenue Approved in this Decision: $201,930.

Earliest Charge Effective Date: March 1, 2011.

Estimated Charge Expiration Date: November 1, 2011.

Class of Air Carriers Not Required to Collect PFC'S: None.

Brief Description of Projects Approved for Collection and Use:

Runway 18/36 rehabilitation and edge lighting, phase 1.

Rehabilitation of airfield vault and control system.

Acquisition of snow removal equipment.

Decision Date: March 23, 2009.

For Further Information Contact: Todd Madison, Central Region Airports Division, (816) 329-2640.

Public Agency: Coos County Airport District, North Bend, Oregon.

Application Number: 09-09-C-00-OTH.

Application Type: Impose and use a PFC.

PFC Level: $4.50.

Total PFC Revenue Approved in this Decision: $1,126,622.

Earliest Charge Effective Date: July 1, 2014.

Estimated Charge Expiration Date: December 1, 2021.

Class of Air Carriers Not Required to Collect PFC'S: Nonscheduled air taxi/commercial operators filing FAA Form 1800-31.

Determination: Approved. Based on information contained in the public agency's application, the FAA has determined that the approved class accounts for less than 1 percent of the total annual enplanements at Southwest Oregon Regional Airport.

Brief Description of Project Approved for Collection and Use: Air traffic control tower.

Decision Date: March 24, 2009.

For Further Information Contact: Trang Tran, Seattle Airports District Office, (425) 227-1662.

Public Agency: County of La Plata and City of Durango, Colorado.

Application Number: 09-06-C-00-DRO.

Application Type: Impose and use a PFC.

PFC Level: $4.50.

Total PFC Revenue Approved in this Decision: $2,825,450.

Earliest Charge Effective Date: July 1, 2009.

Estimated Charge Expiration Date: April 1, 2011.

Class of Air Carriers Not Required to Collect PFC'S: None.

Brief Description of Projects Approved for Collection and Use:

Acquire south runway protection zone.

Construct south taxiway A extension.

Design/engineer south taxiway extension.

Realign airport road entrance and resurface roadways.

Acquire snow removal equipment.

Decision Date: March 26, 2009.

For Further Information Contact: Chris Schaffer, Denver Airports District Office, (303) 342-1258.

Public Agency: Tri-State Airport Authority, Huntington, West Virginia.

Application Number: 09-06-C-00-HTS.

Application Type: Impose and use a PFC.

PFC Level: $3.00.

Total PFC Revenue Approved in this Decision: $1,122,712.

Earliest Charge Effective Date: May 1, 2009.

Estimated Charge Expiration Date: September 1, 2013.

Class of Air Carriers Not Required to Collect PFC'S: Part 135 on-demand air taxi/commercial operators.

Determination: Approved. Based on information contained in the public agency's application, the FAA has determined that the approved class accounts for less than 1 percent of the total annual enplanements at Tri-State Airport.

Brief Description of Projects Approved for Collection and Use:

Acquire friction measuring equipment.

Acquire aircraft rescue and firefighting vehicle.

Taxiway A construction/relocation.

Rehabilitate aircraft rescue and firefighting building and water system.

Rehabilitate airport entrance road.

Terminal rehabilitation and loading bridge.

Airport entrance road slope repair.

PFC application number 6.

Acquire aircraft rescue and firefighting vehicle.

Beacon relocation.

Main apron rehabilitation.

Runway safety area.

Decision Date: March 30, 2009.

For Further Information Contact: Matthew DiGiulian, Beckley Airports Field Office, (304) 252-6217.

Amendments to PFC Approvals
Amendment No., city, state | Amendment approved date | Original approved net PFC revenue | Amended approved net PFC revenue | Original estimated charge exp. date | Amended estimated charge exp. date
07-12-C-01-MDW Chicago, IL | 02/20/09 | $501,933,168 | $523,808,168 | 11/01/53 | 09/01/54
05-05-C-01-MCI, Kansas City, MO | 02/23/09 | 56,963,842 | 30,984,859 | 02/01/17 | 07/01/14
99-02-C-05-MCI, Kansas City, MO | 02/23/09 | 9,556,186 | 7,375,439 | 07/01/12 | 04/01/11
00-03-C-03-MCI, Kansas City, MO | 02/23/09 | 63,402,166 | 62,691,274 | 11/01/14 | 07/01/13
04-07-C-03-CMH, Columbus, OH | 02/25/09 | 77,072,441 | 78,266,889 | 10/01/09 | 11/01/09
05-07-C-01-DLH, Duluth, MN | 03/03/09 | 2,745,402 | 2,714,526 | 05/01/10 | 11/01/09
08-14-C-01-BNA, Nashville, TN | 03/04/09 | 55,362,918 | 72,698,418 | 08/01/16 | 01/01/16
07-05-C-01-APF, Naples, FL | 03/05/09 | 92,000 | 91,651 | 05/01/04 | 05/01/04
05-05-C-02-IAD, Chantilly, VA | 03/06/09 | 773,787,106 | 2,089,325,913 | 05/01/17 | 12/01/38
97-01-C-01-IPT, Williamsport, PA | 03/09/09 | 215,000 | 132,488 | 11/01/98 | 11/01/98
01-01-C-02-LCH, Lake Charles, LA | 03/12/09 | 1,177,234 | 1,377,234 | 07/01/09 | 10/01/09
06-03-C-01-ELP, El Paso, TX | 03/12/09 | 15,748,267 | 9,594,095 | 06/01/08 | 03/01/07
05-02-C-01-ANC, Anchorage, AK | 03/16/09 | 14,000,000 | 25,000,000 | 07/01/09 | 07/01/15
03-04-C-02-LFT, Lafayette, LA | 03/16/09 | 2,351,898 | 2,677,464 | 04/01/08 | 04/01/08
05-10-C-04-MCO, Orlando, FL | 03/24/09 | 540,350,706 | 610,887,236 | 01/01/17 | 12/01/19
92-01-C-02-GTR, Columbus, MS | 03/24/09 | 1,698,211 | 1,526,314 | 01/01/04 | 01/01/04
01-09-C-02-BNA, Nashville, TN | 03/25/09 | 4,145,183 | 3,610,373 | 04/01/03 | 04/01/03
04-05-C-01-HTS, Huntington, WV | 03/25/09 | 436,233 | 301,421 | 12/01/08 | 12/01/08
08-12-C-01-COS, Colorado Springs, CO | 03/26/09 | 2,494,547 | 2,991,994 | 12/01/10 | 11/01/10
01-03-C-OS-LIT, Little Rock, AR | 03/27/09 | 18,382,528 | 12,735,462 | 07/01/05 | 07/01/04
04-04-U-02-LIT, Little Rock, AR | 03/27/09 | NA | NA | 07/01/05 | 07/01/04
06-05-C-O2-LJT, Little Rock, AR | 03/27/09 | 5,113,333 | 6,284,571 | 05/01/06 | 10/01/05
07-06-C-01-LIT, Little Rock, AR | 03/27/09 | 21,763,270 | 34,723,804 | 01/01/10 | 11/01/11
05-05-C-01-DRO, Durango, CO | 03/30/09 | 1,604,120 | 305,241 | 07/01/09 | 11/01/05

Issued in Washington, DC on July 16, 2009.
Joe Hebert,
Manager, Financial Analysis and Passenger Facility Charge Branch.

[FR Doc. E9-17580 Filed 7-23-09; 8:45 am]

BILLING CODE 4910-13-M